DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Data System for Organ Procurement and Transplantation Network and Associated Forms (OMB No. 0915-0157): Revision

Section 372 of the Public Health Service (PHS) Act requires that the Secretary, by contract, provide for the establishment and operation of an Organ Procurement and Transplantation Network (OPTN). The OPTN, among other responsibilities, operates and maintains a national waiting list of individuals requiring organ transplants, maintains a computerized system for matching donor organs with transplant candidates on the waiting list, and operates a 24-hour telephone service to facilitate matching organs with individuals included in the list.

Data for the OPTN data system are collected from transplant hospitals, organ procurement organizations, and tissue-typing laboratories. The information is used to match donor organs with recipients, to monitor compliance of member organizations with OPTN rules and requirements, and to report periodically on the clinical and scientific status of organ donation and transplantation in this country. Data are used in the development and revision of OPTN rules and requirements, operating procedures, and standards of quality for organ acquisition and preservation, some of which have provided the foundation for development of Federal regulations. The practical utility of the data collection is further enhanced by requirements that the OPTN data must be made available without restriction for use by OPTN members, the Scientific Registry of Transplant Recipients, the Department of Health and Human Services, and others for evaluation, research, patient information, and other important purposes.

Revisions in the 28 data collection forms and addition of 2 survey instruments are intended to clarify existing questions, to provide additional detail and categories to avoid confusion and be more inclusive, to remove obsolete data, and to comply with requests for more complete and precise data.

Estimates of Annualized Hour Burden
Form | Number of respondents | Responses per respondents | Total responses | Hours per response | Total burden hours
Deceased Donor Registration | 59 | 173 | 10,207 | 0.3 | 3,062.10
Death referral data | 59 | 12 | 708 | 10 | 7,080.00
Living Donor Registration | 692 | 10 | 6,920 | 0.2 | 1,384.00
Living Donor Followup | 692 | 19 | 13,148 | 0.1 | 1,314.80
Donor Histocompatibility | 152 | 87 | 13,224 | 0.1 | 1,322.40
Recipient Histocompatibility | 152 | 163 | 24,776 | 0.1 | 2,477.60
Heart Candidate Registration | 139 | 23 | 3,197 | 0.3 | 959.10
Lung Candidate Registration | 70 | 28 | 1,960 | 0.3 | 588.00
Heart/Lung Candidate Registration | 72 | 1 | 72 | 0.3 | 21.60
Thoracic Registration | 139 | 24 | 3,336 | 0.3 | 1,000.80
Thoracic Followup | 139 | 174 | 24,186 | 0.2 | 4,837.20
Kidney Candidate Registration | 247 | 109 | 26,923 | 0.2 | 5,384.60
Kidney Registration | 247 | 65 | 16,055 | 0.3 | 4,816.50
Kidney Followup * | 247 | 493 | 121,771 | 0.2 | 24,354.20
Liver Candidate Registration | 123 | 82 | 10,086 | 0.2 | 2,017.20
Liver Registration | 123 | 46 | 5,658 | 0.4 | 2,263.20
Liver Follow-up | 123 | 299 | 36,777 | 0.3 | 11,033.10
Kidney/Pancreas Candidate Registration | 139 | 12 | 1,668 | 0.2 | 333.60
Kidney/Pancreas Registration | 139 | 7 | 973 | 0.4 | 389.20
Kidney/Pancreas Follow-up | 139 | 64 | 8,896 | 0.3 | 2,668.80
Pancreas Candidate Registration | 139 | 7 | 973 | 0.2 | 194.60
Pancreas Registration | 139 | 4 | 0.3 | 166.80 | 556
Pancreas Follow-up | 139 | 20 | 2,780 | 0.2 | 556.00
Intestine Candidate Registration | 44 | 5 | 220 | 0.2 | 44.00
Intestine Registration | 44 | 3 | 132 | 0.2 | 26.40
Intestine Follow-up | 44 | 8 | 352 | 0.2 | 70.40
Immunosuppression Treatment | 692 | 38 | 26,296 | 0.025 | 657.40
Immunosuppression Treatment Follow-up | 692 | 281 | 194,452 | 0.025 | 4,861.30
Post Transplant Malignancy | 692 | 5 | 3,460 | 0.05 | 173.00
Annual Unet Satisfaction Survey | 750 | 1 | 750 | 0.03 | 22.50
Annual Organ Center Satisfaction Survey | 750 | 1 | 750 | 0.03 | 22.50
Total | 903 |  | 561,262 |  | 84,102.90
Includes an estimated 6,000 kidney transplant patients transplanted prior to the initiation of the data system

Send comments to Susan G. Queen, Ph.D., HRSA Reports Clearance Officer, Room 1445, Parklawn Building, 5600 Fishers Lane, Rockville, MD 20857. Written comments should be received within 60 days of this notice.

Dated: November 19, 2003.
Tina M. Cheatham,
Acting Director, Division of Policy Review and Coordination.

[FR Doc. 03-29465 Filed 11-25-03; 8:45 am]

BILLING CODE 4165-15-P